DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before August 19, 2022.

ADDRESSES: You may submit comments identified by Docket No. MSHA-2022-0036 by any of the following methods:

1. Federal eRulemaking Portal: https://www.regulations.gov. Follow the instructions for submitting comments for MSHA-2022-0036.

2. Fax: 202-693-9441.

3. Email: petitioncomments@dol.gov

4. Regular Mail or Hand Delivery: MSHA, Office of Standards, Regulations, and Variances, 201 12th Street South, Suite 4E401, Arlington, Virginia 22202-5452,

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-011-C.

Petitioner: Canyon Fuels Company, LLC, HC35, Box 380, Helper, Utah 84526.

Mine: Skyline Mine No. 3, MSHA ID No. 42-01566, located in Carbon County, Utah.

Regulation Affected: 30 CFR 75.312(c), Main mine fan examinations and records.

Modification Request: The petitioner requests a modification of 30 CFR 75.312 (c) to permit an alternate method of performing the automatic fan signaling device testing without stopping the fan and without removing the miners from the mine.

The petitioner states that:

(a) Fan stoppage for testing introduces contaminants into the mine atmosphere from the worked-out area behind the longwall tailgate.

(b) Any delay of a fan restart beyond 15 minutes after shutdown for testing could result in a lengthy restart of the mine operating systems.

The petitioner proposes the following alternative method:

(a) Installing a valve in the system monitoring the water gauge of the fan pressure monitoring system. The water gauge installed at each main mine fan is a magnehelic gauge with electronic pickups, which are integrated into the atmospheric monitoring system (AMS). When the valve is closed, the AMS will detect zero fan pressure and activate the alarm.

(b) The electrical current of each main mine fan motor is monitored with amp gauges integrated into the AMS system. An interruption in the electrical current to a main mine fan motor will activate the audible fan alarm signal.

(c) When the fan stoppage signal system is tested, an audible fan signal alarm sounds at the surface location where a responsible person is on duty, verifying the performance of the fan alarm signal system. The responsible person is provided with two-way communication to working sections and workstations.

(d) Every 5 to 7 months, each automatic fan signal device and signal alarm shall be tested by stopping the fan to ensure that the automatic signal device activates the alarm when the fan stops.

(e) By the end of the shift on which the test of the automatic fan signal devices is completed, the person(s) performing the test(s) shall record the result of the test(s) in a secure book. The record book shall be retained at a surface location at the mine for at least 1 year and shall be made available for inspection by an authorized representative of the Secretary and the representative of the miners. Such recording shall also indicate the general repair of the system.

(f) Within 60 days of the PDO being granted, the Petitioner shall submit proposed revisions for its approved Part 48 training plan to the MSHA District Manager. These proposed revisions shall include initial and refresher training regarding compliance with the PDO.

(g) Persons performing tests under the provisions of the PDO must be specifically trained on the proper method of testing upon initial assignment to these responsibilities and at least annually thereafter

The petitioner asserts that the alternative method proposed will at all times guarantee no less than the same measure of protection afforded the miners under the mandatory standard.

Song-ae Aromie Noe,
Director, Office of Standards, Regulations, and Variances.

[FR Doc. 2022-15498 Filed 7-19-22; 8:45 am]

BILLING CODE 4520-43-P